DEPARTMENT OF THE INTERIOR

Bureau of Land Management

[CA-310-1820-AE]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The meeting will be held Thursday and Friday, June 5 and 6, 2003, in the Conference Room of the Bureau of Land Management's Alturas Field Office, 708 West 12th St., Alturas, California. On June 5, the meeting begins at 10 a.m. for a field tour on public lands managed by the BLM Alturas Field Office. On June 6, the meeting begins at 8 a.m. Time for public comments has been set aside for 1 p.m. on June 6.

FOR FURTHER INFORMATION CONTACT: Tim Burke, Field Manager, BLM Alturas Field Office, 708 West 12th St., Alturas, CA, (530) 233-4666; or BLM Public Affairs Officer Joseph J. Fontana, telephone (530) 252-5332.

SUPPLEMENTARY INFORMATION: The 15-member council advises the Secretary of the Interior, through the BLM, on a variety of planning and management issues associated with public land management in Northeast California and Northwest Nevada. At this meeting, agenda topics will include an update on the BLM process to develop new land use plans for the Eagle Lake, Alturas and Surprise field office jurisdictions, and RAC involvement in the process. The council will also hear an update on development of a management strategy for western juniper, and status reports from the managers of the Eagle Lake, Alturas and Surprise field offices. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: April 10, 2003.
Joseph J. Fontana,
Public Affairs Officer.

[FR Doc. 03-9549 Filed 4-17-03; 8:45 am]

BILLING CODE 4310-40-P